DEPARTMENT OF HEALTH AND HUMAN SERVICES

Centers for Disease Control and Prevention

Prospective Grant of Exclusive License: P4 Peptide From Streptococcus Pneumoniae

AGENCY: Technology Transfer Office, Centers for Disease Control and Prevention (CDC), Department of Health and Human Services.

ACTION: Notice.

SUMMARY: This is a notice in accordance with 35 U.S.C. 209(e) and 37 CFR 404.7(a)(1)(i) that the Centers for Disease Control and Prevention (CDC), Technology Transfer Office, Department of Health and Human Services (DHHS), is contemplating the grant of a worldwide, exclusive license (excluding the nonexclusively licensed field of use entitled “Use of P4 as either a carrier and/or immunoenhancer in a polysaccharide vaccine conjugate for prevention of Streptococcus pneumonia infection in humans”) to practice the inventions embodied in the patent application referred to below to Viper Therapeutics, having a place of business in Atlanta, Georgia. The patent rights in these inventions have been assigned to the government of the United States of America. The patent(s) to be licensed are:

“U.S. Patent 7,919,104 entitled “Functional Epitopes of Streptococcus Pneumoniae PsaA Antigen and Uses Thereof,” filed 7/18/2008, claiming priority to U.S. Provisional Patent Application No. 60/682,495, filed 5/19/2005, and all related continuing and foreign patents/patent applications for the technology family. CDC Technology ID No. I-030-04.

Status: Issued.

Priority Date: 5/19/2005.

Issue Date: 4/5/2011.

The prospective exclusive license will be royalty-bearing and will comply with the terms and conditions of 35 U.S.C. 209 and 37 CFR 404.7.

Technology

This technology consists of a P4 peptide which contains functional epitopes of the PsaA protein of Streptococcus pneumoniae. This technology also includes an antibody that can bind to the epitopes of the defined peptides. The technology is a complete kit that includes two vaccines comprised of two separate peptides, a pharmaceutical carrier for each vaccine, methods of using the peptides and antibodies, and diagnostic kits comprising a P4 peptide.

ADDRESSES: Requests for a copy of this patent, inquiries, comments, and other materials relating to the contemplated license should be directed to Donald Prather, J.D., Ph.D., Technology Licensing and Marketing Specialist, Technology Transfer Office, Centers for Disease Control and Prevention (CDC), 4770 Buford Highway, Mailstop K-79, Atlanta, GA 30341, Telephone: (770) 488-8612; Facsimile: (770) 488-8615. Applications for a license filed in response to this notice will be treated as objections to the grant of the contemplated license. Only written comments and/or applications for a license which are received by CDC within thirty days of this notice will be considered. Comments and objections submitted in response to this notice will not be made available for public inspection, and, to the extent permitted by law, will not be released under the Freedom of Information Act, 5 U.S.C. 552.

Dated: April 23, 2012.
Tanja Popovic,
Deputy Associate Director for Science, Centers for Disease Control and Prevention.

[FR Doc. 2012-10547 Filed 5-1-12; 8:45 am]

BILLING CODE 4163-18-P